DEPARTMENT OF THE TREASURY

Financial Crimes Enforcement Network

Proposed Collection; Comment Request; Bank Secrecy Act Suspicious Activity Report Database Proposed Data Fields

AGENCY: Financial Crimes Enforcement Network (FinCEN), Treasury.

ACTION: Notice and request for comments.

SUMMARY: FinCEN has begun the design of a new Bank Secrecy Act (BSA) database (the Database) and invites comment on the list of proposed data fields within the Database that will support Suspicious Activity Report (SAR) filings by financial institutions required to file such reports under the BSA. This notice does not propose any new regulatory requirements nor changes to the requirements related to suspicious activity reporting, but rather seeks input on technical matters as we transition from a system originally designed for collecting paper forms to a modernized IT environment for electronic reporting. The list of proposed data fields for the “BSA Suspicious Activity Report (BSA-SAR)” appears at the end of this notice. The proposed data fields reflect the filing requirement for all filers of SARs under the BSA. The SAR will be an e-filed dynamic and interactive report used by all BSA filing institutions to report suspicious activity to the Department of the Treasury. This request for comments covers 31 CFR 103.15, 31 CFR 103.16, 31 CFR 103.17, 31 CFR 103.18, 31 CFR 103.19, 31 CFR 103.20, and 31 CFR 103.21. This request for comments is being made pursuant to the Paperwork Reduction Act of 1995, Public Law 104-13, 44 U.S.C. 3506(c)(2)(A).

DATES: Written comments are welcome and must be received on or before December 14, 2010.

ADDRESSES: Written comments should be submitted to: Regulatory Policy and Programs Division, Financial Crimes Enforcement Network, Department of the Treasury, P.O. Box 39, Vienna, Virginia 22183, Attention: PRA Comments—BSA-SAR Database. BSA-SAR Comments also may be submitted by electronic mail to the following Internet address: regcomments@fincen.treas.gov, with the caption, “Attention: BSA-SAR Database,” in the body of the text.

Inspection of comments. Comments may be inspected, between 10 a.m. and 4 p.m., in the FinCEN reading room in Vienna, VA. Persons wishing to inspect the comments submitted must request an appointment with the Disclosure Officer by telephoning (703) 905-5034 (not a toll-free call).

FOR FURTHER INFORMATION CONTACT: The FinCEN Regulatory Helpline at 800-949-2732, select option 7.

SUPPLEMENTARY INFORMATION: Title: BSA Suspicious Activity Report by Financial Institutions, (See 31 CFR 103.15, 31 CFR 103.16, 31 CFR 103.17, 31 CFR 103.18, 31 CFR 103.19, 31 CFR 103.20, and 31 CFR 103.21).

OMB Number: 1506-XXXX.¹

¹ The SAR requirements are currently covered under the following OMB control numbers: 1506-0001 (SAR-DI), 1506-0006 (SAR-C), 1506-0015 (SAR-MSB), 1506-0019 (SAR-SF which includes broker-dealers, FCMs, IB-Cs, and Mutual Funds), and 1506-0029 (SAR-IC).

Form Number: FinCEN Form 111.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities to protect against international terrorism, and to implement counter-money laundering programs and compliance procedures.² Regulations implementing Title II of the Bank Secrecy Act appear at 31 CFR Part 103. The authority of the Secretary to administer the Bank Secrecy Act has been delegated to the Director of FinCEN.

² Language expanding the scope of the BSA to intelligence or counter-intelligence activities to protect against international terrorism was added by Section 358 of the Uniting and Strengthening America by Providing Appropriate Tools Required to Intercept and Obstruct Terrorism Act of 2001 (the USA PATRIOT Act), Public Law 107-56.

The Secretary of the Treasury was granted authority in 1992, with the enactment of 31 U.S.C. 5318(g), to require financial institutions to report suspicious transactions.

The information collected on the “report” is required to be provided pursuant to 31 U.S.C. 5318(g), as implemented by FinCEN regulations found at 31 CFR 103.15-21. The information collected under this requirement is made available to appropriate agencies and organizations as disclosed in FinCEN's Privacy Act System of Records Notice relating to SARs.³

³ Treasury Department bureaus such as FinCEN renew their System of Records Notices every three years unless there is cause to amend them more frequently. FinCEN's System of Records Notice for the SAR System was most recently published at 73 FR 42405, 42407-9 (July 21, 2008).

Current Action: FinCEN is in the process of designing the Database to accept modernized electronic BSA reporting. The Database will accept XML-based dynamic, state-of-the-art reports. Batch and computer-to-computer filing processes will remain unchanged, although the file format will change to match the Database. Discrete filings will be based on Adobe LiveCycle Designer ES dynamic forms. All filings (discrete, batch, and computed-to-computer) will be accessed through the BSA E-Filing system ⁴ using current registration and log-in procedures. During log-in of the discrete filing option, filers will be prompted through a series of questions ⁵ (see BSA-SAR Comprehensive Summary of Proposed Data Fields, item 1 and Part III, at the end of this notice) to provide information that will identify the type of financial institution filing the SAR (depository institution, broker/dealer, casino, etc.). After log-in, the financial institution filing SARs through the discrete function will answer another set of questions consisting of a subset of the data field appropriate to the filer's specific type of filing institution. Batch and computer-to-computer filers will file reports based on an electronic file specification that will be finalized after reviewing public comments received in response to this notice.

⁴ BSA E-Filing is a free service provided by FinCEN. More information on the filing methods may be accessed at http://bsaefiling.fincen.treas.gov/main.html.

⁵ A series of predetermined questions will be used to establish the type of institution and filing in much the same manner as used in widely accepted income tax filing software.

Dynamic forms are documents with a hierarchical structure that can be converted into XML. This structure can include structure from XML Schema and example XML files. Dynamic forms can be saved as PDF files or XDP files. XDP files are used by the Adobe LiveCycle Form Server to render files to PDF or HTML as needed. The report for the Database will be designed to be both dynamic (changing layout in response to data propagated from other sources) and interactive (capable of accepting user input). Currently, e-filed discrete forms are based on Designer 8.2.1. The dynamic features of these PDF forms can be manipulated by the Adobe Form Server during the rendering process, or by the Adobe Acrobat/Acrobat Reader ⁶ client during viewing. Dynamic forms allow JavaScript to be embedded, thereby enabling programmatic changes to the form layout as well as communication with various data sources (SOAP, OLEDB). Besides JavaScript, Adobe dynamic forms includes a proprietary scripting language called FormCalc, designed to be a simple language for users familiar with spreadsheet calculations.

⁶ Adobe Acrobat Reader is free and can be downloaded from the Adobe Web site http://www.adobe.com/reader.

The filing of the dynamic report will begin with the filer identifying the type of filing,⁷ followed by answering several questions about the filers' institution such as institution type (depository institution, broker-dealer, MSB, insurance, etc.), name of the institution, the institution's RSSD/EIN, and address.⁸ Responses to these questions will enable or “auto populate” certain data elements of the report with information obtained from third-party data sources, completing most of the filing institution's identifying information. The institution will then complete specific information on the subject(s) and nature of the suspicious activity, using the data elements appropriate to the type of financial institution filing. In case of a joint filed report, all data elements will be available for selection. In the event that a single filer requires access to additional elements not typical for the filer's type of financial institution, a “select all” feature will be available to enable all data elements for selection.

⁷ See item 1 of the BSA-SAR Comprehensive Summary of Proposed Data Fields at the end of this notice.

⁸ See Part III of the BSA-SAR Comprehensive Summary of Proposed Data Fields at the end of this notice.

General Review of the BSA-SAR Comprehensive Summary of Proposed Data Fields⁹

⁹ The complete list of proposed data fields appears at the end of this notice.

Note: The following general comments apply to all filings, discrete, batch, and computer-to-computer. Critical fields are marked with an asterisk (*) and must be completed, if appropriate, by checking the “unknown” box.

• All filing institutions will complete item 1, “Type of Filing,” once for each report.

• All filing institutions will complete Part I, “Subject Information,” for each subject. Part I may be repeated as many times as necessary to cover all subjects. If item 2b is checked this Part may be left blank. Within Part I, subject contact information, subject identification information, financial institution relationship information, and subject account information may be repeated as many times as necessary.

• All filing institutions must complete a Part II. Note that Part II items cover all filers. Filers are only required to complete those items that pertain to the report being made that apply to their institution. If a filer has additional information that would add value to the report, a “select all” feature will be available. Generally there will be one Part II per report. Unlimited entries in the “z other” sub category of instrument/product information, unlimited entries for instrument/product IDs and unlimited entries in the “z other” sub category of suspicious activity category and type will be available to electronic filers if needed.

• A Part III “Information Concerning Financial Institution Where Activity Occurred” is required for all reports. Part III may be repeated as many times as necessary to report an unlimited number of financial institutions and/or branches of financial institutions if necessary.

• A single Part IV “Filing Institution Contact Information” is required for each report.

• Part V “Suspicious Activity Information Narrative” is a text file that is limited to 17,000 characters (approximately six pages). Institutions filing electronically may, but are not required to, attach a MS Excel-compatible file (no larger than 1 MB) providing details in tabular form of transactions subject to the suspicious activity discussed in the text file.

Type of Review: Initial review of the proposed data elements of the Database in support of the electronic filing of a dynamic BSA-SAR.

Affected public: Business or other for-profit and not-for-profit financial institutions.

Frequency: As required.

Estimated Reporting Burden: Average of 60 minutes per report and 60 minutes recordkeeping per filing.¹⁰ (The reporting burden of the regulations 31 CFR 103.15, 31 CFR 103.16, 31 CFR 103.17, 31 CFR 103.18, 31 CFR 103.19, 31 CFR 103.20, and 31 CFR 103.21 is reflected in the burden for the form.)

¹⁰ The stated PRA burden is for a single institution filing. If the BSA-SAR report is filed jointly, an additional 30 minutes reporting time per joint filer is added to record the joint filer provided information and identification.

Estimated Recordkeeping and Reporting Burden for 31 CFR 103.15, 31 CFR 103.16, 31 CFR 103.17, 31 CFR 103.18, 31 CFR 103.19, 31 CFR 103.20, and 31 CFR 103.21: 2 hours.¹¹

¹¹ Id.

Estimated number of respondents = 83,455.

This includes depository institutions (27,262), broker-dealers (5,200), future commission merchants (143), insurance companies (1,200), introducing brokers in commodities (1602), money services businesses (37,977), and mutual funds (10,071). This number is equal to the total number of entities that are subject to filing SARs in fiscal year 2010. Given that the current proposal does not change the SAR filing requirement itself, FinCEN does not anticipate that the current proposal will change the number of entities subject to filing SARs.

Estimated Total Annual Responses = 1,281,225.

This number is equal to the total number of SARs filed by all filers in fiscal year 2010. Given that the current proposal does not change the SAR filing requirement itself, FinCEN does not anticipate that the current proposal will change the number of SARs being filed.

Estimated Total Annual Reporting and Recordkeeping Burden for Single Filer: 2,562,450 hours.

Joint filing:

In 2006, FinCEN expanded the broker-dealer (B-D), Future Commission Merchant (FCM), and Introducing Broker in Commodities (IB-C) filer option to file jointly to all filing entities. The intent of joint filing was the reduction of the number of actual reports filed. Due to significant database limitations and issues this expanded option was never formally put into practice. The advent of the FinCEN IT Modernization, the new database and the use of dynamic information collection tools as described above will now fully support joint filing by all BSA filers. In developing this concept, FinCEN is listing below a separate joint filing burden for review and comment. The numbers presented assume that the FY10 filings, as listed above, were all joint with one other filer which would result in a reduction of the number of reports filed by 50%. FinCEN realizes this reduced number to be overstated but elected to use it to establish a baseline for review.¹²

¹² While the number of joint filers may increase from current levels due to the relative ease with which the Database can accommodate joint filing, this number is probably still a significant overestimate.

Estimated number of respondents = 83,455 (Note: no change from single filer option).

Estimated number of responses = 640,612 (See joint filing discussion above).

Estimated Total Annual Reporting and Recordkeeping Burden for Joint Filer: 1,601,530 hours

An agency may not conduct or sponsor, and a person is not required to respond to, a collection of information unless the collection of information displays a valid OMB control number. Records required to be retained under the Bank Secrecy Act must be retained for five years.

Request for Comments:

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: October 8, 2010.
Charles M. Steele,
Deputy Director, Financial Crimes Enforcement Network.

BSA-SAR Comprehensive Summary of Proposed Data Fields

NOTE: Questions for which an answer must be provided (“critical fields”) are identified with the * symbol in front of the data element number.

Type of Filing

*1. Check all that apply:

a. Initial report

b. Correct/Amend prior report

c. Continuing activity report

d. Joint report

f. Prior report internal control/file number if items 1b or 1c are checked

g. DCN (electronic view only)

Part I: Subject Information

2. Check:

a. If entity

b. If all critical* subject information is unavailable

*3. Individual's last name or entity's legal name

a. (check if) unknown

*4. First name

a. (check if) unknown

5. Middle initial (middle name for electronic filers)

Suffix (electronic view only)

5a. Gender

b. (Check if) Male

c. (Check if) Female

d. (Check if) Unknown

6. Alternate name, e.g. AKA—Individual or DBA—Entity

(multiple entries allowed for electronic filers)

7. Occupation or type of business

a. NAICS Code

*8. Address

a. (check if) unknown

*9. City

a. (check if) unknown

*10. State

a. (check if) unknown

State should be derived through third party data as enhanced data if not provided and Country is US, Mexico or Canada and ZIP/Postal Code is provided

*11. ZIP/Postal Code

a. (check if) unknown

ZIP + 4 should be derived through third party data as enhanced data if not provided or verified through third party data if provided

New Data Element of County—Derived through third party data as enhanced data

New Data Elements for GEO Coding—Derived through third party data as enhanced data

New Data Element of HIFCA code—Derived through third party data as enhanced data

New Data Element of HIDTA code—Derived through third party data as enhanced data

*12. Country Code

a. (check if) unknown

*13. TIN (enter number in space provided and check appropriate type below)

a. (check if) unknown

14. TIN type (* if 13 is completed)

a. EIN

b. SSN-ITIN

c. Foreign

*15. Form of identification for subject:

a. (check if) unknown (or not obtained)

b. (check if) Driver's license/state ID

c. (check if) Passport

d. (check if) Alien registration

e. Number

f. Issuing state

g. Country

z. (check if) Other (and specify type in space provided)

*16. Date of birth mm/dd/yyyy

a. (check if) unknown

17. Phone number—type (multiple entries allowed for electronic filers)

a. (check if) Home

b. (check if) Work

c. (check if) Mobile

d. (check if) Fax

18. Phone number (multiple entries allowed for electronic filers)

a. Extension (if any)

19. E-mail address (if available) (multiple entries allowed for electronic filers)

19a. Web site (URL) address (if available) (multiple entries allowed for electronic filers)

20. Corroborative statement to filer?

a. (check if) Yes

b. (check if) No

21. Relationship of the subject to the filing institution (check all that apply)

a. Institution EIN (multiple related institution entries allowed for electronic filers)

b. Accountant

c. Agent

d. Appraiser

e. Attorney

f. Borrower

g. Customer

h. Director

i. Employee

j. Officer

k. Owner/Shareholder

l. No relationship to institution

z. Other (and specify type in space provided)

22. If item 21h, 21i, 21j, or 21k is checked, indicate status of relationship

a. (check if) Relationship continues

b. (check if) Terminated

c. (check if) Suspended/barred

d. (check if) Resigned

23. Action date if 22 b, c, or d is checked

* 24. Financial Institution EIN and account number(s) affected that are related to subject, if any.

a. (check if) No known account involved

b. (check if) Non-US Financial Institution

c. EIN

d. account number

e. (check if) closed

f. account number

g. (check if) closed

h. EIN

i. account number

j. (check if) closed

k. account number

l. (check if) closed

(paper filers have space to enter a second financial institution EIN and two more associated account numbers—items 24h through l; multiple financial institution and account number entries allowed for electronic filers)

25. Subject's role in suspicious activity (if applicable)

a. (check if) Purchaser/Sender

b. (check if) Payee/Receiver

c. (check if) Both a & b

Part II Suspicious Activity Information

* 26. Amount involved in this report

a. (check if) unknown

* 27. Date or date range of suspicious activity for this report

a. From: mm/dd/yyyy

b. To: mm/dd/yyyy

28. Cumulative amount only if box 1c (continuing activity report) is checked

29. Were any of the following instrument/product type(s) involved in the suspicious activity? Check all that apply:

a. Bank/cashier's check

b. Bonds/Notes

c. Commercial paper

d. Credit card

e. Debit card

f. Foreign currency

g. Forex transactions

h. Funds transfer

i. Futures/Options on futures

j. Gaming instruments

k. Government checks or EFT

l. Hedge fund

m. Insurance/annuity products

n. Money orders

o. Mortgage/Deed of Trust

p. Mutual fund

q. Options on securities

r. Penny stocks/microcap securities

s. Personal/Business check

t. Prepaid access

u. Security futures products

v. Stocks

w. Swap, hybrid or other derivative

x. Travelers checks

y. U.S. Currency

z. Other (specify type in space provided) (multiple entries allowed)

30. Commodity type (if applicable)

31. Instrument description (if needed)

32. Market where traded (list of codes will be provided—dropdown menu for electronic filers)

33. IP Address (if available) (multiple entries allowed for electronic filers)

34-35. CUSIP number (multiple entries allowed for electronic filers)

* (36-44: specific type of suspicious activity) (check all that apply)

36. Structuring

a. Alters transaction to avoid BSA recordkeeping requirement.

b. Alters transactions to avoid CTR requirement.

c. Customer cancels transaction to avoid BSA reporting and recordkeeping requirements

d. Multiple transactions below BSA recordkeeping threshold.

e. Multiple transactions below CTR threshold.

f. Suspicious inquiry by customer regarding BSA reporting or recordkeeping requirements

z. Other (specify type of suspicious activity in space provided)

37. Casinos

a. Minimal gaming with large transactions

b. Suspicious intra-casino funds transfers

c. Suspicious use of counter checks or markers

z. Other (specify type of suspicious activity in space provided)

38. Fraud

a. Check

b. Commercial loan

c. Commercial mortgage loan

d. Consumer loan

e. Credit/Debit card

f. Elder financial abuse

g. Healthcare

h. Mail

i. Mass-marketing

j. Pyramid scheme

k. Residential mortgage loan

l. Wire

z. Other (specify type of suspicious activity in space provided)

39. Identification

a. Changes spelling or arrangement of name

b. Multiple individuals with same or similar identities

c. Provided questionable or false documentation

d. Refused or avoided request for documentation

e. Single individual with multiple identities

z. Other (specify type of suspicious activity in space provided)

40. Insurance

a. Excessive insurance

b. Excessive or unusual cash borrowing against policy/annuity

c. Little or no concern for product performance, penalties, fees, or tax consequences

d. Proceeds sent to unrelated third party

e. Suspicious life settlement sales (e.g. STOLI's, Viaticals)

f. Suspicious termination of policy or contract

g. Unclear or no insurance interest

z. Other (specify type of suspicious activity in space provided)

41. Securities/Futures/Options

a. Insider trading

b. Market manipulation/wash trading

c. Misappropriation

d. Unauthorized pooling

z. Other (specify type of suspicious activity in space provided)

42. Terrorist Financing

a. Known or suspected terrorist/terrorist organization

z. Other (specify type of suspicious activity in space provided)

43. Money laundering

a. Exchanges small bills for large bills or vice versa

b. Suspicion concerning the source or physical condition of funds

c. Suspicious currency exchanges

d. Suspicious designation of beneficiaries, assignees or joint owners

e. Suspicious EFT/Wire transfers

f. Suspicious receipt of government payments/benefits

g. Suspicious use of multiple accounts

h. Suspicious use of noncash monetary instruments

i. Suspicious use of third-party transactors (straw-man)

j. TBML/BMPE

k. Transaction with no apparent economic, business, or lawful purpose.

l. Transaction out of pattern for customer(s)

z. Other (specify type of suspicious activity in space provided)

44. Other suspicious activities

a. Bribery or gratuity

b. Counterfeit checks

c. Embezzlement/theft/disappearance of funds

d. Forgeries

e. Identity theft

f. Misuse of position or self-dealing

g. Suspected public/private corruption (domestic)

h. Suspected public/private corruption (foreign)

i. Suspicious use of informal value transfer system

j. Suspicious use of multiple locations

k. Two or more individuals working together

l. Unauthorized electronic intrusion

m. Unlicensed or unregistered MSB

z. Other (specify type of suspicious activity in space provided)

Part III Information Concerning Financial Institution Where Activity Occurred

* 45. Type of financial institution (check only one)

a. Casino/Card club

b. Depository institution

c. Insurance company

d. MSB

e. Securities/Futures

z. Other (specify type of institution in space provided)

* 46. Primary Federal Regulator (instructions specify banking agencies, CFTC, SEC)

CFTC

Federal Reserve

FDIC

FinCEN (Including where IRS or another FinCEN delegate examines for compliance)

NCUA

OCC

OTS

SEC

Not Applicable

47. Filing institution identification number (Check one box to indicate type)

a. CRD number

b. IARD number

c. NFA number

d. SEC ID number

e. RSSD number

f. Identification number

48. If item 45a is checked, indicate type of gaming institution

a. State licensed casino

b. Tribal authorized casino

c. Card club

z. Other (specify type of gaming institution in space provided)

49. If item 45e is checked, indicate type of Securities and Futures institution or individual where activity occurred—check box(es) for functions that apply to this report

a. Clearing broker—securities

b. Futures commission merchant

c. Holding company

d. Introducing broker—commodities

e. Introducing broker—securities

f. Investment advisor

g. Investment company

h. Retail foreign exchange dealer

i. Subsidiary of financial/bank holding company

z. Other (specify type of institution or individual in space provided)

* 50. Legal name of financial institution

51. Alternate name, e.g., AKA—individual or trade name, DBA—entity

* 52. TIN (enter number in space provided and check appropriate type below)

a. (check if) unknown

53. TIN type (* if 52 is completed)

a. EIN

b. SSN-ITIN

c. Foreign

* 54. Address

a. (check if) unknown

* 55. City

a. (check if) unknown

56. State

State should be derived through third party data as enhanced data if not provided and Country is US, Mexico or Canada and ZIP/Postal Code is provided

* 57. ZIP/Postal Code

a. (check if) unknown

ZIP + 4 should be derived through third party data as enhanced data if not provided or verified through third party data if provided

New Data Element of County—Derived through third party data as enhanced data

* 58. Country (2 letter code—list provided)

59. Internal control/file number

60. Loss to financial institution (if applicable)

61. Financial institution's role in transaction (if applicable)

a. (check if) Selling location

b. (check if) Paying location

c. (check if) Both a & b

* 62. Address of branch or office where activity occurred

(if no branch activity involved, check box a)

63. RSSD number (of the Branch)

64. City

65. State

State should be derived through third party data as enhanced data if not provided and Country is US, Mexico or Canada and ZIP/Postal Code is provided

66. ZIP/Postal Code

ZIP + 4 should be derived through third party data as enhanced data if not provided or verified through third party data if provided

New Data Element of County—Derived through third party data as enhanced data

New Data Elements for GEO Coding—Derived through third party data as enhanced data will be identified for the financial institution and any branches provided.

New Data Element of HIFCA code—Derived through third party data as enhanced data will be identified for the financial institution and any branches provided.

New Data Element of HIDTA code—Derived through third party data as enhanced data will be identified for the financial institution and any branches provided.

67. Country (2 letter code—list provided)

68. Branch's role in transaction (if applicable)

a. (check if) Selling location

b. (check if) Paying location

c. (check if) Both a & b

(paper filers have space to enter 2 branches—items 69-75; electronic filers can enter multiple branches)

Part IV Filing Institution Contact Information

* 76. Primary Federal Regulator (instructions specify banking agencies, SEC, CFTC,) CFTC

Federal Reserve

FDIC

FinCEN (Including where IRS or another FinCEN delegate examines for compliance)

NCUA

OCC

OTS

SEC

Not Applicable

* 77. Filer name

* 78. TIN (enter number in space provided and check appropriate type below)

* 79. TIN type

a. EIN

b. SSN/ITIN

c. Foreign

*80. Type of financial institution (check only one)

a. Casino/Card club

b. Depository institution

c. Insurance company

d. MSB

e. Securities/Futures

z. Other (specify type of institution in space provided)

81. Type of Securities and Futures institution or individual filing this report—check box(es) for functions that apply to this report

a. Clearing broker—securities

b. CPO/CTA

c. Futures commission merchant

d. Holding company

e. Introducing broker—commodities

f. Introducing broker—securities

g. Investment advisor

h. Investment company

i. Retail foreign exchange dealer

j. SRO Futures

k. SRO Securities

l. Subsidiary of financial/bank holding company

z. Other (specify type of institution or individual in space provided)

82. Filing institution identification number (Check one box to indicate type)

a. CRD number

b. IARD number

c. NFA number

d. SEC ID number

e. RSSD number

f. Identification number

* 83. Address

* 84. City

85. State

State should be derived through third party data as enhanced data if not provided and

Country is US, Mexico or Canada and ZIP/Postal Code is provided

* 86. ZIP/Postal Code

ZIP + 4 should be derived through third party data as enhanced data if not provided or verified through third party data if provided

New Data Element of County—Derived through third party data as enhanced data

* 87. Country (2 letter code—list provided)

88. Alternate name, e.g., AKA—individual or trade name, DBA—entity

* 89. Internal control/file number

90. LE contact agency

91. LE contact name

92. LE contact phone number

a. Extension (if any)

93. LE contact date

* 94. Designated contact office

* 95. Designated contact office phone number including area code

a. Extension, if any

* 96. Designated office e-mail address

* 97. Date filed

* Part V Suspicious Activity Information—Narrative

(text field 17,000 characters)

(for electronic filers one attachment permitted—Excel-compatible file, 1 MB maximum size)

[FR Doc. 2010-26038 Filed 10-14-10; 8:45 am]

BILLING CODE 4810-02-P